DEPARTMENT OF THE INTERIOR

California District Advisory Council Meeting; Cancellation Notice

AGENCY: Bureau of Land Management, Interior.

ACTION: Notice of cancellation for a meeting of the California Desert District Advisory Council.

SUMMARY: Notice is hereby given, in accordance with Public Laws 92-463 and 94-579, that the California Desert District Advisory Council to the Bureau of Land Management, U.S. Department of the Interior, has cancelled the two-day public meeting scheduled Friday, August 27 from 8 a.m. to 5 p.m. and Saturday, August 28 from 8 a.m. to 1 p.m., at the Needles City Council Chambers, 1111 Bailey, Needles, California. The public will be notified when the meeting has been rescheduled.

FOR FURTHER INFORMATION CONTACT: Mr. Doran Sanchez, BLM California Desert District External Affairs (909) 697-5220.

Dated: July 19, 2004.
Linda Hansen,
District Manager.

[FR Doc. 04-16814 Filed 7-22-04; 8:45 am]

BILLING CODE 4310-40-P